DEPARTMENT OF THE INTERIOR

Office of the Secretary

Bureau of Indian Affairs

Office of the Special Trustee for American Indians

Office of Indian Trust Transition

Tribal Consultation on Indian Trust Asset Management

AGENCIES: Office of the Secretary, Bureau of Indian Affairs, Office of the Special Trustee for American Indians, Office of Indian Trust Transition, Interior.

ACTION: Notice of tribal consultation meetings.

SUMMARY: The Office of the Secretary along with the Bureau of Indian Affairs, the Office of the Special Trustee for American Indians, and Office of Indian Trust Transition will conduct consultation meetings on Indian trust asset management. The purpose is to discuss a proposed reorganization of the Department's trust responsibility functions to improve the management of Indian trust assets. Any Indian tribe, band, nation or individual Indian is encouraged to attend the meeting and to submit written comments.

DATES: The first consultation meeting will be held in Albuquerque, N.M. on December 13, 2001 at 9:00 AM (local time). Dates, times and locations of additional consultation meetings will be announced shortly. All written comments must be received on or before January 15, 2002.

ADDRESSES: The Albuquerque meeting will be held on December 13, 2001 at the All Indian Pueblo Council, 123 4th St, S.W., Albuquerque, New Mexico. Send written comments to the Office of the Secretary, Attn: Office of Executive Secretariat, 1849 C St. NW., MS7229-MIB, Washington, DC 20240. Send written comments by electronic mail to www.doi.gov/oait.

FOR FURTHER INFORMATION CONTACT: Wayne Smith, 1849 C St. NW., MS-4140 MIB, Washington, DC 20240, (202) 208-7163, Fax (202) 208-5320.

SUPPLEMENTARY INFORMATION: The purpose of the meeting is to involve affected and interested parties in the process of organizing the Department's trust asset management responsibility functions. The Department has determined that there is a need for dramatic change in the management of Indian trust assets. This need has been made apparent in several ways. An independent consultant has analyzed important components of the Department's trust reform activities and made several recommendations, including the recommendation that the Department consolidate trust functions under a single entity. Concerns have also been raised in the Cobell v. Norton case, which is currently pending in the Federal District Court for the District of Columbia. Internal review has also supported reorganization. A new office in the Department, the Office of Indian Trust Transition, has been created to plan and support reorganization. While preliminary actions have been taken by the Department, the plan is still in the early stages of development. The meeting is the first in a series of public meetings. Future meetings may be held in Portland, OR; Rapid City, SD; Minneapolis, MN; Oklahoma City, OK; Washington, DC, and potentially other sites. The dates and locations of these meetings will be announced in a future notice.

Written comments, including names, street addresses, and other contact information of persons submitting comments will be available for public review at the address stated in the ADDRESSES section. Interested persons may examine the written comments during regular business hours (7:45 a.m. to 4:15 p.m. EST), Monday through Friday, except Federal holidays. Individuals who submit comments may request confidentiality. If you wish us to withhold your name, street address, and other contact information (such as fax or phone number) from public review or from disclosure under the Freedom of Information Act, you must state this prominently at the beginning of your comment. We will honor your request to the extent allowable by law. We will make available for public inspection in their entirely all submissions from organizations or businesses, and from individuals identifying themselves as representatives or officials of organizations or businesses.

This meeting supports administrative policy on tribal consultation by encouraging maximum direct participation of representatives of tribal governments, tribal organizations, and other interested persons in important processes.

Dated: November 23, 2001.
J. Steven Griles,
Deputy Secretary.

[FR Doc. 01-29583 Filed 11-26-01; 8:45 am]

BILLING CODE 4310-02-M